POSTAL SERVICE

39 CFR Part 20

International Return Receipt

AGENCY: Postal Service™.

ACTION: Final rule.

SUMMARY: The Postal Service is revising Mailing Standards of the United States Postal Service, International Mail Manual (IMM®), and Notice 123, Price List, to reflect changes to international Return Receipt as established by the Governors of the United States Postal Service.

DATES: Effective: January 1, 2025.

FOR FURTHER INFORMATION CONTACT: Dale Kennedy at 202-268-6592 or Kathy Frigo at 202-268-4178.

SUPPLEMENTARY INFORMATION: On October 10, 2024, the Postal Service filed a notice in PRC Docket No. MC2025-58, which the PRC favorably reviewed on December 2, 2024, in Order No. 8179, regarding the termination of international Return Receipt as an extra service for Priority Mail International and First-Class Package International Service, effective January 1, 2025, although international Return Receipt will continue to be eligible when combined with registered letters and flats sent as First-Class Mail International.

The Postal Service hereby adopts the described changes to Mailing Standards of the United States Postal Service, International Mail Manual (IMM), which is incorporated by reference in the Code of Federal Regulations.

We will publish an appropriate amendment to 39 CFR part 20 to reflect these changes.

List of Subjects in 39 CFR Part 20

Administrative practice and procedure, Postal Service.

Accordingly, the Postal Service amends Mailing Standards of the United States Postal Service, International Mail Manual (IMM), incorporated by reference in the Code of Federal Regulations as follows (see 39 CFR 20.1):

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the Mailing Standards of the United States Postal Service, International Mail Manual (IMM) as follows:

1 International Mail Services

* * * * *

140 International Mail Categories

141 Definitions

* * * * *

141.4 Priority Mail International

[Revise the last sentence of the first paragraph to read as follows (removing “and return receipt service”:]

* * *At the sender`s option, extra services, such as additional merchandise insurance coverage, may be added on a country-specific basis.

* * * * *

141.6 First-Class Package International Service

[Revise the last sentence of the text to read as follows (removing “and return receipt”:]

* * *At the sender's option, extra services, such as Registered Mail, may be added on a country-specific basis.

* * * * *

2 Conditions for Mailing

* * * * *

230 Priority Mail International

* * * * *

232 Eligibility

* * * * *

232.9 Extra Services

* * * * *

[Remove 232.92 in its entirety and renumber current 232.93 as 232.92.]

* * * * *

250 First-Class Package International Service

* * * * *

252 Eligibility

* * * * *

252.5 Extra Services

* * * * *

[Remove 252.53 in its entirety and renumber current 252.54 as 252.53.]

* * * * *

3 Extra Services

* * * * *

320 Insurance

* * * * *

322 Priority Mail Express International Service

* * * * *

[Remove 322.4 in its entirety.]

* * * * *

323 Priority Mail International Insurance

* * * * *

[Remove 323.4 in its entirety and renumber current 323.5 through 323.7 as 323.4 through 323.6.]

* * * * *

330 Registered Mail

* * * * *

334 Processing Requests

* * * * *

334.5 Return Receipt

[Revise the text to read as follows:]

Return receipts can be purchased for First-Class Mail International items with international Registered Mail service to most countries. (See 330 and 340 and Individual Country Listings.)

* * * * *

340 Return Receipt

341 Description

[Revise the first sentence of the text to read as follows:]

PS Form 2865, Return Receipt for International Mail (Avis de Reception), is a pink card that is attached to a First-Class Mail International item when used in conjunction with international Registered Mail service at the time of mailing and that is removed and signed at the point of delivery and returned to the sender.* * *

342 Availability

[Revise the text to read as follows:]

Return receipt service can be purchased only at the time of mailing and is available only for a First-Class Mail International item when used in conjunction with international Registered Mail service. Some countries do not admit return receipts. See Individual Country Listings.

* * * * *

344 Processing Requests

344.1 Form

* * * * *

344.12 Accepting Clerk's Responsibility

The accepting clerk must:

[Revise item a. to read as follows (removing “insured or”:]

a. Record the return receipt fee on the registered mailing receipt.

* * * * *

7 Treatment of Inbound Mail

* * * * *

750 Extra Services

* * * * *

753 Return Receipt

753.1 Completion of Return Receipt Form

[Revise the first sentence of the text to read as follows (removing “or insured”:]

Inbound registered mail for which the sender requests advice or confirmation of delivery will be endorsed with the words “AVIS DE RECEPTION” or with the letters “A.R.,” and be accompanied by a light red or pink card similar to PS Form 2865, Return Receipt for International Mail.* * *

* * * * *

Individual Country Listings

* * * * *

Extra Services

* * * * *

Return Receipt (340)

[For every country that permits return receipt service (which is every country except Denmark, Iraq, and North Korea, which indicate that return receipt service is “NOT Available,” and also Montenegro, which as shown below is being revised to read “NOT Available”), revise the text to read as follows:]

Fee: Refer to Notice 123, Price List, for the applicable price. Available for First-Class Mail International Registered Mail only.

* * * * *

Montenegro

* * * * *

Extra Services

* * * * *

Return Receipt (340)

NOT Available

* * * * *

Colleen Hibbert-Kapler,
Attorney, Ethics and Legal Compliance.

[FR Doc. 2024-31517 Filed 12-31-24; 4:15 pm]

BILLING CODE P